DEPARTMENT OF DEFENSE

Department of the Army; Corps of Engineers

Intent To Prepare a Draft Environmental Impact Statement in Conjunction With Proposed Flood Control and Ecosystem Restoration Measures on the Upper Des Plaines River and Tributaries in Kenosha County, WI, and in Cook and Lake Counties, IL

AGENCY: Department of the Army, U.S. Army Corps of Engineers, DoD.

ACTION: Notice of intent.

SUMMARY: Project involves construction of flood control and ecosystem restoration measures along the Upper Des Plaines River and Tributaries in Kenosha County, WI, and in Cook and Lake Counties, IL. Alternative plans are likely to include setback levees, retention ponds, dam modification, sediment traps, meander restoration, bank stabilization, wetland restoration, non-structural measures, and vegetative buffer strips.

FOR FURTHER INFORMATION CONTACT: Mr. Keith Ryder, 312/353-6400 ext. 2020; U.S. Army Corps of Engineers, Suite 600, 111 North Canal Street; Chicago, IL 60606-7206.

SUPPLEMENTARY INFORMATION: The Draft Environmental Impact Statement is expected to be released for public review in December 2004. Public scoping meetings will be held on the following dates:

(1) June 4, 2002, 7-9 PM—Kenosha County Center, 19600 75th Street, Bristol, WI.

(2) June 5, 2002, 7-9 PM—Byron Colby Barn at Prairie Crossing, Jones Point Road west of Route 45, Graylake, IL.

(3) June 6, 2002, 7-9 PM—Oakton Community College Conference Center, 1600 E. Golf Road, Des Plaines, IL.

Luz D. Ortiz,
Army Federal Register Liaison Officer.

[FR Doc. 02-13685 Filed 5-30-02; 8:45 am]

BILLING CODE 3710-HN-M